DEPARTMENT OF TRANSPORTATION

Bureau of Transportation Statistics

Reports, Forms and Recordkeeping Requirements; Activity Under OMB Review: Part 249 Preservation of Records

AGENCY: Bureau of Transportation Statistics (BTS), DOT.

ACTION: Notice.

SUMMARY: In compliance with the Paperwork Reduction Act of 1995 (44 U.S.C. 3501 et seq.), this notice announces that the Information Collection Request (ICR) abstracted below has been forwarded to the Office of Management and Budget (OMB) for extension of currently approved collections. The ICR describes the nature of the information collection and its expected burden. The Federal Register Notice with a 60-day comment period soliciting comments on the following collection of information was published on February 26, 2003 (68 FR vol. 68, page 8958).

DATES: Written comments should be submitted by June 16, 2003.

FOR FURTHER INFORMATION CONTACT: Bernie Stankus, Office of Airline Information, K-14, Room 4125, Bureau of Transportation Statistics, 400 Seventh Street, SW., Washington, DC 20590-0001, Telephone Number (202) 366-4387, Fax Number (202) 366-3383 or e-mail bernard.stankus@bts.gov.

SUPPLEMENTARY INFORMATION:

Bureau of Transportation Statistics (BTS)

Title: Part 249 Preservation of Records.

Type of Request: Extension of a currently approved collection.

OMB Control Number: 2138-0006.

Forms: None.

Affected Public: U.S. certificated carriers, public charter operators and overseas military personnel charter operators.

Abstract: Title 14 CFR part 249 requires U.S. certificated air carriers, public charter operators and overseas military personnel charter operators to retain such records as general and subsidiary ledgers, journals and journal vouchers, voucher distribution registers, accounts receivable and payable journals and ledgers, subsidy records documenting underlying financial and statistical reports to the Department, funds reports, consumer records, sales reports, auditors' and flight coupons, air waybills, etc. Depending on the nature of the document, it may be retained for a period of 30 days to 3 years. Public charter and overseas military personnel charter operators must retain documents which evidence or reflect deposits made by each charter participant and commissions received by, paid to, or deducted by travel agents, and all statements, invoices, bills and receipts from suppliers or furnishers of goods and services in connection with the tour or charter. These records are retained for 6 months after completion of the charter program.

Estimated Annual Burden Hours: 660 hours.

ADDRESSES: Send comments to the Office of Information and Regulatory Affairs, Office of Management and Budget, 725—17th Street, NW., Washington, DC 20503, Attention BTS Desk Officer.

Comments are invited on whether the record retention requirements are necessary for the proper performance of the functions of the Department, including whether the record retention requirements have practical utility; whether the accuracy of the Department's estimate of burden hours is correct. Also, commenters are invited to provide suggestions on ways to enhance the quality, utility, and clarity of the information to be collected; and ways to minimize the burden of the requirements on respondents, including the use of automated techniques or other forms of information technology.

Issued in Washington, DC, on May 8, 2003.
Donald W. Bright,
Assistant Director, Office of Airline Information.

[FR Doc. 03-12046 Filed 5-14-03; 8:45 am]

BILLING CODE 4910-FE-P